DEPARTMENT OF TRANSPORTATION

Federal Aviation Administration

Notice of Cancellation of Preparation of Environmental Impact Statement for Replacement General Aviation Airport, Mesquite, Clark County, Nevada

AGENCY: Federal Aviation Administration, DOT.

ACTION: Notice of cancellation of preparation of Environmental Impact Statement.

SUMMARY: The Federal Aviation Administration (FAA) announces that it has discontinued preparation of an Environmental Impact Statement (EIS) for a construction of a Replacement General Aviation Airport for Mesquite, Nevada. On November 14, 2011, FAA published a notice of suspension of the EIS in the Federal Register (76 FR 70530). The FAA received a letter dated September 27, 2011, from the City of Mesquite, Nevada asking the FAA to suspend any further work on the EIS. The reasons for this action include the local economic conditions in Mesquite and other local fiscal and budgetary constraints. The Mesquite Lands Act of 1988 (the Act), as amended, provided land to the City of Mesquite for the replacement airport, expired on November 14, 2011 and was not extended or renewed by Congress. The original purpose and need for the proposed relocated airport no longer exists. The City of Mesquite, the owner and operator of the existing Mesquite Municipal Airport, has not included a replacement airport in its 5-year Airport Capital Improvement Program. As a result, FAA has determined the proposed replacement General Aviation Airport for Mesquite, Nevada is not ripe for decision at this time.

FOR FURTHER INFORMATION CONTACT: David B. Kessler, AICP, Regional Environmental Protection Specialist, AWP-610.1, Airports Division, Federal Aviation Administration, Western-Pacific Region, 15000 Aviation Boulevard, Lawndale, California 90261, Telephone: 310-725-3615.

SUPPLEMENTARY INFORMATION: On December 8, 2004, the Federal Aviation Administration (FAA) issued a Notice of Intent in the Federal Register (69 FR 71097) to prepare an EIS for the proposed construction and operation of a Replacement General Aviation (GA) Airport, for the City of Mesquite, in eastern Clark County, Nevada. The City of Mesquite proposed to build the replacement airport south of Interstate Highway 15 between Exit 108 and 109 on the Mormon Mesa, about 15 miles west of the exiting Mesquite Municipal Airport and change the airport land use to residential land use, including construction of a new arterial roadway through the existing airport property. To maintain access to the National Air Transportation System, the city also proposed to design, fund, and build a replacement GA airport at Mormon Mesa that would provide GA facilities and services to the flying public, support regional economic development at no cost to the FAA. The City proposed to build the replacement GA airport to meet FAA Airport Reference Code (ARC) B-II standards with a new runway 7,500 feet long by 100 feet wide. On May 16, 2008, the Notice of Availability of FAA's Draft EIS was published in the Federal Register (73 FR 28461). The FAA received 34 comment letters on the Draft EIS from federal, state and local agencies, as well as the general public. In March 2009, as FAA was preparing responses to comments received on the 2008 Draft EIS, FAA determined there were significant new circumstances or information relevant to environmental concerns and bearing on the Proposed Project or its impacts. Consistent with Title 40 CFR 1501.9, FAA decided to prepare a Revised Draft Environmental Impact Statement (RDEIS).

On September 27, 2011, the FAA received a letter from the City of Mesquite, asking the FAA to suspend any additional work on the EIS for the proposed Replacement GA Airport EIS. The City of Mesquite explained the postponement was based on local economic conditions and other local fiscal and budgetary constraints.

On November 14, 2011, FAA published a notice of Suspension of the EIS in the Federal Register (76 FR 70530). In 2014, the FAA provided a grant of funds to the City of Mesquite to install weather reporting equipment at the existing Mesquite Municipal Airport. In 2015, FAA provided a grant of funds to the City of Mesquite to update its Airport Master Plan. The City completed its Master Plan in the June 2017. The City did not include a replacement airport proposal in its 5-year Airport Capital Improvement Program provided to the FAA.

The Mesquite Lands Act of 1988, as amended (Pub. L. 99-549) provided the City with the opportunity to select a specified number of acres of federal land managed by the Bureau of Land Management to build a replacement airport on the Mormon Mesa. Since Public Law 99-549 expired, the federal land on the Mormon Mesa for the replacement airport is no longer available. The original purpose and need to change the land use of the existing airport to residential land use and replace the airport no longer exists. There is no demonstrated aeronautical need for the replacement airport and the information in the 2008 Draft EIS is also no longer valid. Thus, FAA is terminating this EIS.

Issued in Hawthorne, California, on September 19, 2017.
Mark A. McClardy,
Director, Office of Airports, Western-Pacific Region, AWP-600.

[FR Doc. 2017-20839 Filed 9-27-17; 8:45 am]

BILLING CODE 4910-13-P